DEPARTMENT OF HOMELAND SECURITY

Federal Emergency Management Agency

44 CFR Part 67

[Docket ID FEMA-2011-0002; Internal Agency Docket No. FEMA-B-1213]

Proposed Flood Elevation Determinations

Correction

In proposed rule document 2011-21709 appearing on pages 53082-53086 in the issue of August 25, 2011, make the following correction:

PART 67—[CORRECTED]

1. On page 53084, in § 67.4, in the table for “Smith County, Texas and Incorporated Areas”, in the first column, in the second entry “Tributary BF-1” should read “Black Fork Creek Tributary BF-1”.

2. On the same page, in the same section, in the same table, in the same column, in the third entry “Tributary BF-M-1” should read “Black Fork Creek Tributary BF-M-1”.

3. On the same page, in the same section, in the same table, in the same column, in the fourth entry “Tributary D” should read “Black Fork Creek Tributary D”.

4. On the same page, in the same section, in the same table, in the same column, in the fifth entry “Tributary D-1” should read “Black Fork Creek Tributary D-1”.

5. On the same page, in the same section, in the same table, in the same column, in the sixth entry “Tributary D-2” should read “Black Fork Creek Tributary D-2”.

6. On the same page, in the same column, in the same table, in the same column, in the seventh entry “Tributary D-3” should read “Black Fork Creek Tributary D-3”.

7. On the same page, in the same section, in the same table, in the same column, in the eighth entry “Tributary D-4” should read “Black Fork Creek Tributary D-4”.

8. On the same page, in the same section, in the same table, in the same column, in the ninth entry “Tributary D-5” should read “Black Fork Creek Tributary D-5”.

9. On page 53085, in the same section, in the same table, in the same column, in the second entry “Tributary G-1” should read “Gilley Creek Tributary G-1”.

10. On the same page, in the same section, in the same table, in the same column, in the ninth entry “Tributary 11” should read “West Mud Creek Tributary 11”.

11. On the same page, in the same section, in the same table, in the same column, in the tenth entry “Tributary B” should read “West Mud Creek Tributary B”.

12. On the same page, in the same section, in the same table, in the same column, in the eleventh entry “Tributary M-1” should read “West Mud Creek Tributary M-1”.

13. On the same page, in the same section, in the same table, in the same column, in the twelfth entry “Tributary M-2” should read “West Mud Creek Tributary M-2”.

14. On the same page, in the same section, in the same table, in the same column, in the thirteenth entry “Tributary M-A” should read “West Mud Creek Tributary M-A”.

15. On the same page, in the same section, in the same table, in the same column, in the fourteenth entry “Tributary M-A.1” should read “West Mud Creek Tributary M-A.1”.

16. On the same page, in the same section, in the same table, in the same column, in the fifteenth entry “Tributary M-A.2” should read “West Mud Creek Tributary M-A.2”.

17. On the same page, in the same section, in the same table, in the same column, in the sixteenth entry “Tributary M-C” should read “West Mud Creek Tributary M-C”.

18. On the same page, in the same section, in the same table, in the same column, in the seventeenth entry “Tributary M-C.1” should read “West Mud Creek Tributary M-C.1”.

19. On the same page, in the same section, in the same table, in the same column, in the eighteenth entry “Tributary M-C.2” should read “West Mud Creek Tributary M-C.2”.

[FR Doc. C1-2011-21709 Filed 10-3-11; 8:45 am]

BILLING CODE 1505-01-P